DEPARTMENT OF HEALTH AND HUMAN SERVICES

National Institutes of Health

Submission for OMB Review; Comment Request; The Agricultural Health Study: A Prospective Cohort Study of Cancer and Other Disease Among Men and Women in Agriculture

SUMMARY: Under the provisions of section 3507(a)(1)(D) of the Paperwork Reduction Act of 1995, the National Cancer Institute (NCI), the National Institutes of Health (NIH) has submitted to the Office of Management and Budget (OMB) a request for review and approval of the information collection listed below. This proposed information collection was previously published in the Federal Register on February 14, 2005, page 7509 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: The Agricultural Health Study—A Prospective Cohort Study of Cancer and Other Diseases Among Men and Women in Agriculture: Phase III. Type of Information Collection Request: New. Need and Use of Information Collection: The purpose of this information collection is to update occupational and environmental exposure information as well as medical history information for subjects enrolled in the the Agricultural Health Study. The primary objectives of the study are to determine the health effects resulting from occupational and environmental exposures in the agricultural environment. The findings will provide valuable information concerning the potential link between agricultural exposures and cancer and other chronic diseases among Agricultural Health Study cohort members, and this information may be generalized to the entire agricultural community.

Frequency of Response: Single-time reporting. Affected Public: Individuals or households; Farms; Type of Respondents: Licensed pesticide applicators and their spouses. The annual reporting burden is as follows: Estimated Number of Respondents: 74,320; Estimated Number of Responses per Respondent: 1; Average Burden Hours Per Response: .5845 for 72,320 and 1.0 for 2,000; and Estimated Total Annual Burden Hours Requested: 44,270. The annualized cost to respondents is estimated at: $708,320.00. There are no Capital Costs to report. There are no Operating or Maintenance Costs to report.

Type of respondent | Estimated number of respondents | Frequency of response | Average hours per response | Estimated annual return hours requested
Private Applicators Interview only | 39,479 | 1 | 0.5845 | 23,075.0
Interview and buccal cells | 1,100 | 1 | 1.0 | 1,100.0
Spouses Interview only | 30,054 | 1 | 0.5845 | 17,566.0
Interview and buccal cells | 820 | 1 | 1.0 | 820.0
Commercial Applicators Interview only | 2,787 | 1 | 0.5845 | 1,629.0
Interview and buccal cells | 80 | 1 | 1.0 | 80.0
Total | 74,320 |  |  | 44,270

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Michael C.R. Alavanja, DrPH, Occupational and Environmental Epidemiology Branch, Epidemiology and Biostatistics Program, Division of Cancer Epidemiology and Genetics, National Cancer Institute, 6120 Executive Boulevard, Room 8000, Bethesda, MD 20892, or call (301) 435-4720, or e-mail your request, including your address to: alavanjm@mail.nih.gov.

Comments Due Date: Comments regarding this information collection are best assured of having their full effect if received within 30-days of the date of this publication.

Dated: June 6, 2005.
Rachelle Ragland-Greene,
NCI Project Clearance Liaison, National Institutes of Health.

[FR Doc. 05-11897 Filed 6-15-05; 8:45 am]

BILLING CODE 4101-01-P